DEPARTMENT OF DEFENSE

Office of the Secretary

[Docket ID: DoD-2024-OS-0005]

Privacy Act of 1974; Matching Program

AGENCY: Office of the Secretary, Department of Defense (DoD).

ACTION: Notice of a new matching program.

SUMMARY: This Computer Matching Agreement (CMA) verifies the eligibility of Military Health System (MHS) beneficiaries who are Medicare eligible to receive TRICARE Benefits.

DATES: Comments will be accepted on or before February 12, 2024. This proposed action will be effective the day following the end of the comment period unless comments are received which result in a contrary determination.

ADDRESSES: You may submit comments, identified by docket number and title, by any of the following methods:

* Federal Rulemaking Portal: https://www.regulations.gov.

Follow the instructions for submitting comments.

* Mail: Department of Defense, Office of the Assistant to the Secretary of Defense for Privacy, Civil Liberties, and Transparency, 4800 Mark Center Drive, Mailbox #24, Suite 08D09, Alexandria, VA 22350-1700.

Instructions: All submissions received must include the agency name and docket number for this Federal Register document. The general policy for comments and other submissions from members of the public is to make these submissions available for public viewing on the internet at https://www.regulations.gov as they are received without change, including any personal identifiers or contact information.

FOR FURTHER INFORMATION CONTACT: Ms. Mindy Smith, Management and Program Analyst, Privacy and Civil Liberties Directorate at (703) 571-0070.

SUPPLEMENTARY INFORMATION: The DoD, Defense Manpower Data Center (DMDC) will provide the Department of Health and Human Services (HHS), Centers for Medicare and Medicaid Services (CMS) a list of specific data elements for all DoD eligible beneficiaries both over and under the age of 65. CMS will: (1) match the Social Security Numbers (SSNs) of beneficiaries provided by DMDC against the information found in CMS's “Enrollment Database (EDB)” system of records; (2) validate the identification of the individual against CMS beneficiary records based on SSN and date of birth provided by DMDC; (3) provide the individual's Medicare Beneficiary ID (MBI), Medicare enrollment status and address in the response file to DMDC. After receipt of the response file from CMS, DMDC will update the Defense Enrollment Eligibility Reporting System (DEERS) with appropriate Medicare information provided in the response file. The verified identification of eligible beneficiaries and their current Medicare enrollment status is maintained in DEERS for use by the Defense Health Agency in the management of its programs.

Participating Agencies: The Department of Defense, Defense Manpower Data Center, and the Department of Health and Human Services, Centers for Medicare and Medicaid Services.

Authority for Conducting the Matching Program: 10 U.S.C. 1086(d).

Purpose(s): This matching program verifies the eligibility of MHS beneficiaries who are Medicare eligible to receive TRICARE benefits.

Categories of Individuals: The categories of individuals whose information is involved in the matching program is all members and retirees of the DoD and all the Uniformed Services, and DoD beneficiaries (e.g., dependent family members, legal guardians and other protectors and prior military members eligible for Department of Veterans Affairs benefits).

Categories of Records: The categories of records involved in the matching program are SSN, date of birth, sex code, and Medicare data, including the assigned MBI, Medicare enrollment status, and address. DMDC will provide CMS with a finder file for the Under and Over 65 Populations to match against an assigned CMS Health Insurance Claim Number (HICN) or MBI which are contained within EDB. The finder file sent from DoD will contain SSN, date of birth, sex code, and first and last name. The finder file will be used for SSN matching against an assigned HICN or MBI number. CMS will provide DoD with a reply file which will contain SSN, date of birth, sex code, first name, last name, and Medicare data. DMDC will provide data for approximately 10 million beneficiaries from DEERS to CMS for matching on a weekly basis. CMS will provide a reply file containing all appropriate matched and failed responses.

System of Records: “Defense Enrollment Eligibility Reporting System (DEERS),” DMDC 02 DoD, published in full at 87 FR 32384 (May 31, 2022). “Military Health Information System (MHIS),” EDHA 07, published at 85 FR 36190 (June 15, 2020). “Enrollment Database (EDB),” 09-70-0502, published in full at 73 FR 10249 (February 26, 2008), updated at 78 FR 23938 (April 23, 2013), 81 FR 8204 (February 18, 2016), and 83 FR 6591 (February 14, 2018).

Dated: January 9, 2024.
Aaron T. Siegel,
Alternate OSD Federal Register Liaison Officer, Department of Defense.

[FR Doc. 2024-00589 Filed 1-9-24; 4:15 pm]

BILLING CODE 6001-FR-P